NUCLEAR REGULATORY COMMISSION

[Docket No. 72-26]

Notice of Issuance of Materials License SNM-2511; Diablo Canyon Independent Spent Fuel Storage Installation

The U.S. Nuclear Regulatory Commission (NRC or the Commission) has issued Materials License No. SNM-2511 to the Pacific Gas and Electric Company (PG&E) for the receipt, possession, storage, and transfer of spent fuel at the Diablo Canyon Independent Spent Fuel Storage Installation (ISFSI), located in San Luis Obispo County, California. This Materials License is issued under the provisions of title 10 of the Code of Federal Regulations, part 72 (10 CFR part 72), and is effective as of the date of issuance. A license for an ISFSI under 10 CFR part 72 is issued for 20 years, but the licensee may seek to renew the license prior to its expiration.

The Diablo Canyon ISFSI is licensed to provide interim storage in a dry cask storage system for up to 2100 metric tons of uranium contained in intact and damaged fuel assemblies and associated radioactive materials resulting from the operation of the Diablo Canyon Power Plant. The dry cask storage system authorized for use is a site-specific version of the HI-STORM 100 system designed by Holtec International.

Following receipt of PG&E's application dated December 21, 2001, the NRC staff published a “Notice of Docketing, Notice of Proposed Action, and Notice of Opportunity for Hearing for a Materials License for the Diablo Canyon Independent Spent Fuel Storage Installation” in the Federal Register on April 22, 2002 (67 FR 19600). The “Notice of Issuance of Environmental Assessment and Finding of No Significant Impact for the Diablo Canyon Independent Spent Fuel Storage Installation,” was published in the Federal Register on October 30, 2003 (68 FR 61838). The scope of the staff's Environmental Assessment (EA) included the construction, operation and decommissioning of an ISFSI at the Diablo Canyon site, including impacts resulting from the use of the HI-STORM 100 dry cask storage system.

The NRC staff has completed its environmental, safeguards, and safety reviews of the Diablo Canyon ISFSI license application and safety analysis report, as amended. The NRC staff issued Materials License No. SNM-2511 and its Safety Evaluation Report (SER) for the Diablo Canyon Independent Spent Fuel Storage Installation on March 22, 2004.

For further details with respect to this action, see the application dated December 21, 2001, the staff's EA dated October 24, 2003, Materials License SNM-2511 and the staff's SER, dated March 22, 2004, and other related documents, which are publicly available in the records component of NRC's Agencywide Documents Access and Management System (ADAMS). The NRC maintains ADAMS, which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by e-mail to pdr@nrc.gov.

Dated in Rockville, Maryland, this 22nd day of March, 2004.
For the Nuclear Regulatory Commission.
James R. Hall,
Senior Project Manager, Licensing Section, Spent Fuel Project Office, Office of Nuclear Material Safety and Safeguards.

[FR Doc. E4-683 Filed 3-25-04; 8:45 am]

BILLING CODE 7590-01-P